DEPARTMENT OF COMMERCE

National Oceanic and Atmospheric Administration

Public Meeting of the Science Advisory Board

AGENCY: Office of Oceanic and Atmospheric Research (OAR), National Oceanic and Atmospheric Administration (NOAA), Department of Commerce (DOC).

ACTION: Notice of public meeting.

SUMMARY: This notice sets forth the schedule and proposed agenda for the meeting of the Science Advisory Board (SAB). The members will discuss issues outlined in the section on Matters to be Considered.

DATES: The meeting is scheduled for Wednesday, November 30, 2022, 10 a.m.-5 p.m. eastern standard time (EST) and Thursday, December 1, 2022, 8:30 a.m.-12:30 p.m. eastern standard time (EST). The time and the agenda topics described below are subject to change. For the latest agenda, please refer to the SAB website: https://sab.noaa.gov/index.php/current-meetings/.

ADDRESSES: The November 30-December 1, 2022 meeting will be held at the DoubleTree by Hilton Silver Spring Washington, DC North, 8777 Georgia Ave., Silver Spring, MD. The link for the webinar registration for the November 30-December 1, 2022 meeting may be found here: https://sab.noaa.gov/index.php/current-meetings/.

FOR FURTHER INFORMATION CONTACT: Dr. Cynthia Decker, Executive Director, SSMC3, Room 11230, 1315 East-West Hwy., Silver Spring, MD 20910; Phone Number: 202-936-5847; Email: Cynthia.Decker@noaa.gov; or visit the SAB website at https://sab.noaa.gov/index.php/current-meetings/.

SUPPLEMENTARY INFORMATION: The NOAA Science Advisory Board (SAB) was established by a Decision Memorandum dated September 25, 1997, and is the only Federal Advisory Committee with responsibility to advise the Under Secretary of Commerce for Oceans and Atmosphere on strategies for research, education, and application of science to operations and information services. SAB activities and advice provide necessary input to ensure that National Oceanic and Atmospheric Administration (NOAA) science programs are of the highest quality and provide optimal support to resource management.

Status: The November 30-December 1, 2022 meeting will be open to public participation with a 15-minute public comment period at 4:45 p.m. eastern standard time (EST) on Wednesday, November 30, 2022. The SAB expects that public statements presented at its meetings will not be repetitive of previously submitted verbal or written statements. In general, each individual or group making a verbal presentation will be limited to a total time of three minutes. Written comments for the November 30-December 1, 2022 meeting should be received in the SAB Executive Director's Office by November 15, 2022 to provide sufficient time for SAB review. Written comments received by the SAB Executive Director after this date will be distributed to the SAB, but may not be reviewed prior to the meeting date.

Special Accommodations: This meeting is physically accessible to people with disabilities. Requests for special accommodations may be directed to the Executive Director no later than 12 p.m. on November 15, 2022.

Matters to be Considered: The meeting on November 30-December 1, 2022 will include the (1) NOAA Update; (2) NOAA Science Update; (3) NOAA Response to the SAB Priorities for Weather Research Report; (4) SAB Data Archiving and Access Requirements Working Group (DAARWG) Report on the NESDIS Common Cloud Framework (NCCF); (5) NOAA Response to the Quadrennial Report from the Tsunami Science and Technology Advisory Panel (TSTAP); (6) SAB Ecosystem and Sciences Management Working Group (ESMWG) Report on the Rapidly Changing Marine Environment; (7) SAB Report on Open Science and Open Data; (8) Updates on SAB Work Plan; (9) SAB Working Group Updates. Meeting materials, including work products, will be made available on the SAB website: https://sab.noaa.gov/index.php/current-meetings/

David Holst,
Chief Financial Officer and Administrative Officer, Office of Oceanic and Atmospheric Research, National Oceanic and Atmospheric Administration.

[FR Doc. 2022-24807 Filed 11-14-22; 8:45 am]

BILLING CODE 3510-KD-P